INTERNATIONAL TRADE COMMISSION

[USITC SE-08-011]

Government in the Sunshine Act Meeting Notice

Agency Holding the Meeting: United States International Trade Commission.

Time and Date: May 28, 2008 at 11 a.m.

Place: Room 101, 500 E Street, SW., Washington, DC 20436, Telephone: (202) 205-2000.

Status: Open to the public.

Matters To Be Considered

1. Agenda for future meetings: none.

2. Minutes.

3. Ratification list.

4. Inv. Nos. 701-TA-456 and 731-TA-1151 and 1152 (Preliminary) (Citric Acid and Certain Citric Salts from Canada and China)—briefing and vote. (The Commission is currently scheduled to transmit its determinations to the Secretary of Commerce on or before May 29, 2008; Commissioners' opinions are currently scheduled to be transmitted to the Secretary of Commerce on or before June 5, 2008.)

5. Outstanding action jackets: none.

In accordance with Commission policy, subject matter listed above, not disposed of at the scheduled meeting, may be carried over to the agenda of the following meeting.

Issued: May 7, 2008.
By order of the Commission.
William R. Bishop,
Hearings and Meetings Coordinator.

[FR Doc. E8-10601 Filed 5-12-08; 8:45 am]

BILLING CODE 7020-02-P